DEPARTMENT OF HOMELAND SECURITY

Office of the Secretary; Privacy Office

[DHS-2005-0012]

RIN 1660-ZA08

Privacy Act of 1974; System of Records

AGENCY: Federal Emergency Management Agency, Emergency Preparedness and Response Directorate, Department of Homeland Security.

ACTION: Notice of Privacy Act system of records.

SUMMARY: Pursuant to the Privacy Act of 1974, the Department of Homeland Security gives notice that the United States Fire Administration, located in its Directorate for Emergency Preparedness and Response/Federal Emergency Management Agency, is establishing a new system of records that will be maintained in its Access database, which is used to track agency activities. The new system of records is entitled “9/11 Heroes Stamp Act of 2001 File System; DHS/FEMA/USFA-1.”

The 9/11 Heroes Stamp Act of 2001 Files System is being established to support the administration of a program which provides assistance to individual emergency relief personnel killed or permanently disabled while serving in connection with the terrorist attacks of September 11, 2001. The system will enable prompt distribution of proceeds from the sale by the United States Postal Service of a Heroes “semipostal” stamp.

DATES: The new system of records will be effective August 25, 2005, unless comments are received that result in a contrary determination.

ADDRESSES: You may submit comments, identified by EPA DOCKET NUMBER: DHS-2005-0012 and/or 1660-ZA08 by one of the following methods:

• EPA Federal Partner EDOCKET Web Site: http://www.epa.gov/feddocket. Follow instructions for submitting comments on the Web site. DHS has joined the Environmental Protection Electronic Docket System (Partner EDOCKET). DHS and its agencies (excluding the United States Coast Guard (USCG) and Transportation Security Administration (TSA) will use the EPA Federal Partner EDOCKET system. The USCG and TSA [legacy Department of Transportation (DOT) agencies] will continue to use the DOT Docket Management System until full migration to the electronic rulemaking Federal docket management system occurs in 2005.

• Federal e-Rulemaking Portal: http://www.regulations.gov. Follow the instructions for submitting comments.

• Fax: (202) 646-4536.

• Mail: Rules Docket Clerk, Federal Emergency Management Agency, Office of General Counsel, Room 840, 500 C Street, SW., Washington, DC 20472.

FOR FURTHER INFORMATION CONTACT: Rena Y. Kim, Privacy Act Officer, Room 840, 500 C Street, SW., Washington, DC 20472; (telephone) (202) 646-3949.

SUPPLEMENTARY INFORMATION: Pursuant to the Privacy Act of 1974, the Department of Homeland Security (DHS) is establishing a new system of records to be maintained by the United States Fire Administration (USFA), Federal Emergency Management Agency (FEMA), which is part of the Department's Directorate for Emergency Preparedness and Response (EP&R). The new system of records is entitled “9/11 Heroes Stamp Act of 2001 File System; DHS/FEMA/USFA-1.”

The 9/11 Heroes Stamp Act of 2001 File System is a system of records established to support the administration of a program, authorized by the 9/11 Heroes Stamp Act of 2001, Pub. L. 107-67, 115 Stat. 514, which provides assistance to emergency relief personnel permanently disabled while serving in connection with the terrorist attacks of September 11, 2001, or, in the event the personnel were killed, to their personal representative. The system is being established to enable prompt distribution of proceeds from the sale by the United States Postal Service (USPS) of the Heroes “semipostal” stamp. A semipostal stamp is a type of postage that is sold for a value greater than a regular first class stamp. The proceeds of the price differential for the Heroes stamp fund the awards provided for in the Heroes Stamp Act after an appropriate deduction is made for the reasonable costs of producing and distributing the semipostal stamps. The USPS issued the Heroes semipostal stamp in June 2002, and discontinued selling it on December 31, 2004. FEMA, USFA, will use the 9/11 Heroes Stamp Act of 2001 File System; DHS/FEMA/USFA-1 to collect and maintain the requisite personally identifying information needed to determine eligibility for the proceeds from the sale of the stamps. Emergency relief personnel or their personal representatives will submit applications for benefits.

Applicants will be asked to submit personally identifying information, including name, date of birth, social security number, address and telephone number and, if applicable, Department of Justice September 11th Victim Compensation Fund claim number. In many cases, the emergency relief personnel submitting applications for benefits will have also submitted applications to the Department of Justice under the September 11th Victim Compensation Fund of 2001. FEMA is requesting a claim number in such cases to verify consistency between the applications for both programs. FEMA will use all the requested information to populate a database for the administration of this program.

The Privacy Act embodies fair information principles in a statutory framework governing the means by which the United States Government collects, maintains, uses and disseminates personally identifiable information. The Privacy Act applies to information that is maintained in a “system of records.” A “system of records” is a group of any records under the control of an agency from which information is retrieved by the name of the individual or by some identifying number, symbol, or other identifying particular assigned to the individual. The 9/11 Heroes Stamp Act of 2001 File System is such a system of records.

The Privacy Act requires each agency to publish in the Federal Register a description denoting the type and character of each system of records that the agency maintains, and the routine uses that are contained in each system in order to make agency record keeping practices transparent, to notify individuals regarding the uses to which personally identifiable information is put, and to assist individuals to more easily find such files within the agency. Below is the description of the 9/11 Heroes Stamp Act of 2001 File System; DHS/FEMA/USFA-1.

In accordance with 5 U.S.C. 552a(r), DHS has provided a report of this new system of records to the Office of Management and Budget and to Congress.

System name:

9/11 Heroes Stamp Act of 2001 File System; DHS/FEMA/USFA-1.

Security classification:

Unclassified.

System location:

The Access database will be operated at FEMA's facility located at the U.S. Fire Administration, National Emergency Training Center (NETC), 16825 South Seton Avenue, Emmitsburg, MD 21727. It will also be operational from FEMA Headquarters at 500 C Street, SW., Room 832, Washington, DC.

Categories of individuals covered by the system:

The system covers those individuals who claim benefits under the 9/11 Heroes Stamp Act of 2001 (i.e., emergency relief personnel claiming to be permanently disabled or the personal representative of emergency relief personnel who were killed as a result of the terrorist related aircraft crashes of September 11, 2001.)

Categories of records in the system:

Records include application forms and other information submitted in hard copy by the individual seeking benefits under the 9/11 Heroes Stamp Act of 2001, or by the individual's personal representative if the individual is deceased, and documents submitted in support of the claims. This information may include an individual's medical, personal, employment, financial and other records obtained or generated to adjudicate the Heroes applications as well as September 11th Victim Compensation Fund claim numbers where applicable.

Authority for maintenance of the system:

9/11 Heroes Stamp Act of 2001, Public Law 107-67, section 652, 115 Stat. 514 (Nov. 12, 2001).

Purpose(s):

These records are collected or generated for the purpose of determining an individual applicant's qualification for and/or compensation to benefits under the 9/11 Heroes Stamp Act of 2001.

Routine uses of records maintained in the system, including categories of users and the purposes of such uses:

The information the applicant submits on his or her claim is for official use only by FEMA for purposes of determining their eligibility for benefits under the 9/11 Heroes Stamp Act. The Privacy Act itself permits certain disclosures under 5 U.S.C. 552a(b), such as to individuals within an agency who have a need for the information in order to perform their duties. In addition to those disclosures generally permitted under 5 U.S.C. 552a(b) of the Privacy Act, all or a portion of the records or information contained in this system may be disclosed outside DHS as a routine use pursuant to 5 U.S.C. 552a(b)(3) as follows:

A. To an agency, organization, or individual for the purposes of performing authorized audit or oversight operations.

B. To a congressional office from the record of an individual in response to an inquiry from that congressional office made at the request of the individual to whom the record pertains or to a Congressional Committee providing oversight or conducting an investigation of this program.

C. To contractors, experts, consultants, and others performing or working on a contract, service, grant, cooperative agreement, or other assignment for the Federal Government, when necessary to accomplish an agency function related to this system of records.

D. To the Department of Justice (DOJ), the United States Attorney's Office, or a consumer-reporting agency for further collection action on any debt in relation to the 9/11 Heroes Stamp Act of 2001 when circumstances warrant.

E. Where a record, either on its face or in conjunction with other information, indicates a violation or potential violation of law—criminal, civil or regulatory—the relevant records may be referred to an appropriate Federal, State, territorial, tribal, local, international, or foreign agency law enforcement authority or other appropriate agency charged with investigating or prosecuting such a violation or enforcing or implementing such law.

F. To the Department of Justice or other Federal agency for purposes of conducting litigation or proceedings before any court, adjudicative or administrative body, when: (a) FEMA, or (b) any employee of FEMA in his/her official capacity, or (c) any employee of FEMA in his/her individual capacity where DOJ or FEMA has agreed to represent the employee, or (d) the United States or any agency thereof, is a party to the litigation or has an interest in such litigation and when the records are determined by FEMA to be arguably relevant to the proceeding.

G. To the National Archives and Records Administration (NARA) or other Federal Government agencies pursuant to records management inspections being conducted under the authority of 44 U.S.C. sections 2904 and 2906.

H. To the Department of Justice for purposes of verifying the consistency of information on Heroes Fund applications with information submitted to the Department of Justice under the September 11th Victim Compensation Fund of 2001.

I. To other Federal, State, local or private agencies or entities as necessary to determine eligibility of applicants for benefits under the Heroes Fund.

Disclosure to consumer reporting agencies:

Privacy Act information may be reported to consumer reporting agencies pursuant to 5 U.S.C. 552a(b)(12).

Policies and practices for storing, retrieving, accessing, retaining, and disposing of records in the system:

Storage:

The database will be operated at FEMA's facility located at the U.S. Fire Administration, NETC, 16825 South Seton Avenue, Emmitsburg, MD 21727, and it will be operational from FEMA Headquarters at 500 C Street, SW., Room 832, Washington, DC 20472. FEMA Headquarters manages data use at all locations. Data consistency is maintained by regular replication of data among the sites and the consolidated master database via automated procedures. FEMA has a configuration management process that is used to deploy the application in a consistent manner throughout the enterprise.

Copies of paper applications as well as information maintained electronically are stored in a work area that is locked when it is not staffed. The doors to the work area are kept closed. There is limited access given to persons who have a need to have access to the information to perform their official duties. Computerized records are stored in a database server in a secured file server room. Electronic records are stored on a file server in another building and backed up nightly.

Retrievability:

Files and automated data are retrieved by name and/or Social Security Number of an individual applicant/claimant or personal representative of a claimant, and the name of the deceased, case file number, and/or Social Security Number.

Safeguards:

Use of the Access database will be carefully monitored and reviewed on a periodic basis by the system administrator.

FEMA employs software programs that monitor host and network traffic to identify unauthorized attempts to upload or change information or otherwise cause damage by individuals or group of individuals. Unauthorized attempts to upload information or change information are prohibited and may be punishable under the Computer Fraud and Abuse Act of 1986 and the National Information Infrastructure Protection Act.

The system has an audit trail of the changes made to the application and the user information associated with that change. Hence, the ability to monitor unauthorized access is provided.

Information in this system is safeguarded in accordance with applicable laws, rules and policies, including the DHS Information Technology Security Program Handbook. All records are protected from unauthorized access through appropriate administrative, physical, and technical safeguards. These safeguards include restricting access to authorized personnel who have a need-to-know, using locks, and password protection identification features. DHS file areas are locked after normal duty hours and the facilities are protected from the outside by security personnel.

Retention and disposal:

The paper copy of the application and supporting documentation, which are completed by the individual, constitute the official copy of the records. The database is kept in support of the paper copy. FEMA will treat the disposition of these records—hard copies of the application and supporting documentation and any data that is input and stored in any electronic databases—the same way. The data in the system are considered permanent Federal Government records, as, 9/11 records are permanent records. This means that NARA will not destroy them once FEMA retires the records to NARA. FEMA's disposition schedule, which is pending NARA approval under job number N1-311-04-05, would retire records to NARA 1 year and 6 months after the closure of the file.

System Manager and address:

Office of the Administrator, USFA, NETC, 16825 South Seton Avenue, Emmitsburg, MD 21727.

Notification procedure:

A request for access to records in this system may be made by writing to the System Manager, identified above, in conformance with 6 CFR part 5, subpart B and 44 CFR part 6, which provides the rules for requesting access to Privacy Act records.

Record access procedures:

Same as Notification Procedure above.

Contesting record procedures:

Same as Notification Procedure above. State clearly and concisely the information being contested, the reasons for contesting it, and the proposed amendment to the information sought.

Record source categories:

The information will come from the individual applicants and/or their personal representative, if applicable, and their employer or volunteer organization, and financial institution. Information may also be obtained from Federal, State or local administrative bodies or private insurers that have made relevant determinations regarding the disability of individual applicants or their death.

Exemption claimed for the system:

None.

Dated: July 18, 2005.
Nuala O'Connor Kelly,
Chief Privacy Officer, Department of Homeland Security.

[FR Doc. 05-14518 Filed 7-25-05; 8:45 am]

BILLING CODE 4410-10-P